DEPARTMENT OF ENERGY

Federal Energy Regulatory Commission

Notice of Application Tendered for Filing with the Commission Soliciting Additional Study Requests and Establishing Procedures for Relicensing and a Deadline for Submission of Final Amendments

January 25, 2001.

Take notice that the following application has been filed with the Commission and is available for public inspection:

a. Type of Application: New Minor License.

b. Project No.: P-6059-006.

c. Date Filed: January 2, 2001.

d. Applicant: Hydro Development Group, Inc.

e. Name of Project: Fowler #7.

f. Location: On the Oswegatchie River in St. Lawrence County, near the Town of Gouverneur, New York.

g. Filed Pursuant to: Federal Power Act 16 U.S.C. 791 (a)-825(r).

h. Applicant Contact: Kevin M. Webb, Hydro Development Group, Inc., 200 Bulfinch Drive, Andover, MA 01810, (978) 681-1900 ext. 1202.

i. FERC Contact: Charles T. Raabe (202) 219-2811 or E-mail address at Charles.Raabe@FERC.fed.us.

j. Comment Date: April 2, 2001.

All documents (original and eight copies) should be filed with: David P. Boergers, Secretary, Federal Energy Regulatory Commission, 888 First Street, NE, Washington, DC 20426. Comments and protests may be filed electronically via the internet in lieu of paper. See, 18 CFR 385.2001(a)(1)(iii) and the instructions on the Commission's web site at http://www.ferc.fed.us/efi/doorbell.htm.

k. Description of Project: The existing, operating Fowler #7 Project consists of: (1) A concrete gravity-type dam surmounted by flashboards comprising; (i) the 75-foot-long, 25-foot-high Dam #1; (ii) the 192-foot-long, 20-foot-high Dam #2; and (iii) the 154-foot-long, 15-foot-high Dam #3; (2) a reservoir having a 3.0-acre surface area and a gross storage volume of 30-acre-feet at normal water surface elevation 542 feet NGVD; (3) an intake structure having trashracks; (4) a powerhouse containing three 300-kW generating units for a total installed capacity of 900-kW; (5) a 1,000-kVA 2.3/23-kV transformer; (6) a 4,000-foot-long, 23-kV overhead transmission line; (7) a trailrace; and (8) appurtenant facilities. The applicant estimates that the total average annual generation would be 6.0 MWh. All generated power is sold to Niagara Mohawk Power Corporation.

l. With this notice, we are initiating consultation with the New York State Historic Preservation Officer (SHPO), as required by § 106, National Historic Preservation Act, and the regulations of the Advisory Council on Historic Preservation, 36 CFR 800.4.

m. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the filing date of this application and serve a copy of the request on the applicant.

n. Procedural Schedule and Final Amendments: The application will be processed according to the following milestones, some of which may be combined to expedite processing:

Notice of application has been accepted for filing

Notice of NEPA Scoping

Notice of application is ready for environmental analysis

Final amendments to the application must be filed with the Commission*

Notice of the availability of the draft NEPA document

Notice of the availability of the final NEPA document

Order issuing the Commission's decision on the application

Final amendments to the application must be filed with the Commission no later than 30 days from the issuance date of the notice of ready for environmental analysis.

David P. Boergers,
Secretary.

[FR Doc. 01-2595 Filed 1-30-01; 8:45 am]

BILLING CODE 6717-01-M